DEPARTMENT OF AGRICULTURE

Submission for OMB Review; Comment Request

June 14, 2012.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Business—Cooperative Service

Title: Energy Audit and Renewable Energy Development Assistance Program.

OMB Control Number: 0570-0059.

Summary of Collection: This grant program is authorized under the “Food, Conservation, and Energy Act of 2008,” Public Law 110-246, (2008 Farm Bill). Grants are made to eligible entities to provide energy audits and renewable energy development assistance to enable agricultural producers and rural small businesses to become more energy efficient and to use renewable energy technologies and resources. Grant funds may be used to conduct and promote energy audits; provide recommendations and information on how to improve the energy efficiency of the operations of the agricultural producers and rural small businesses, and how to use renewable energy technologies and resources in the operations.

Need and Use of the Information: Applicants seeking a grant need to submit applications that include a project proposal, certifications, and agreements to the Agency. The project proposal must contain an application narrative, plan and schedule for implementation, number of entities assisted, budget, geographic scope, capabilities of the applicant, resources, leveraging, outreach, description of the method and rationale used to select recipients to be served, and project performance. This information will be used to determine applicant eligibility, project eligibility, and to ensure that funds are used for authorized purposes. Failure to collect proper information could result in improper determinations of eligibility or improper use of funds.

Description of Respondents: Business or other for-profits; State, Local and Tribal Governments.

Number of Respondents: 53.

Frequency of Responses: Reporting: Quarterly, Monthly, Annually.

Total Burden Hours: 1,170.

Charlene Parker,
Departmental Information Collection Clearance Officer.

[FR Doc. 2012-14977 Filed 6-19-12; 8:45 am]

BILLING CODE 3410-XT-P